ENVIRONMENTAL PROTECTION AGENCY

[EPA-HQ-OAR-2010-0690; FRL 10015-59-OAR]

Proposed Information Collection Request; Comment Request; EPA's Light-Duty In-Use Vehicle Testing Program (Renewal)

AGENCY: Environmental Protection Agency (EPA).

ACTION: Notice.

SUMMARY: The Environmental Protection Agency is planning to submit an information collection request (ICR), “EPA's Light-Duty In-Use Vehicle Testing Program (Renewal); (EPA ICR No. 0222.12, OMB Control No. 2060-0086)” to the Office of Management and Budget (OMB) for review and approval in accordance with the Paperwork Reduction Act. Before doing so, EPA is soliciting public comments on specific aspects of the proposed information collection as described below. This is a proposed extension of the ICR, which is currently approved through June 30, 2021. An Agency may not conduct or sponsor and a person is not required to respond to a collection of information unless it displays a currently valid OMB control number.

DATES: Comments must be submitted on or before December 8, 2020.

ADDRESSES: Submit your comments, referencing Docket ID No. EPA-HQ-OAR-2010-0690, online using www.regulations.gov (our preferred method), by email to sohacki.lynn@epa.gov, or by mail to: Lynn Sohacki, Compliance Division, Office of Transportation and Air Quality, U.S. Environmental Protection Agency, 2000 Traverwood, Ann Arbor, Michigan 48105.

EPA's policy is that all comments received will be included in the public docket without change including any personal information provided, unless the comment includes profanity, threats, information claimed to be Confidential Business Information (CBI) or other information whose disclosure is restricted by statute.

FOR FURTHER INFORMATION CONTACT: Lynn Sohacki, Compliance Division, Office of Transportation and Air Quality, U.S. Environmental Protection Agency, 2000 Traverwood, Ann Arbor, Michigan 48105; telephone number: 734-214-4851; fax number: 734-214-4869; email address: sohacki.lynn@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA has an ongoing program to evaluate the emissions performance of light-duty motor vehicles (i.e., passenger cars and light trucks) after they have been introduced into commerce. This program, known as EPA's “in-use” program, operates in conjunction with other motor vehicle emissions testing programs conducted by the Agency and the light-duty motor vehicle manufacturers. These other test programs include confirmatory certification testing of prototype vehicles by manufacturers and EPA and the mandatory manufacturer in-use verification program (IUVP.) The Clean Air Act directs EPA to ensure that motor vehicles comply with emissions requirements throughout their useful lives. The primary purpose of EPA's in-use program is information gathering. Nevertheless, EPA can require a recall if it receives information, from whatever source, including in-use testing, that a “substantial number” of any class or category of vehicles or engines, although properly maintained and used, do not conform to the emission standards, when in actual use throughout their useful life.

The EPA in-use program can be broken down into three closely related components. The first component involves the selection of classes of passenger cars and light trucks, totaling approximately 119 vehicles, for surveillance testing at EPA's National Vehicle and Fuel Emissions Laboratory (NVFEL). In some cases, surveillance testing may be followed by confirmatory testing to develop additional information related to test failures observed in a class during surveillance testing. Confirmatory testing involves the selection of approximately 10 passenger cars and light trucks per class, averaging approximately 8 vehicles per year, for further testing at EPA's NVFEL. Confirmatory testing differs from surveillance testing in that the vehicles must meet stricter maintenance and use criteria. However, the emissions tests that are conducted are the same for surveillance and confirmatory testing. The second program component involves the testing of a subset of vehicles from the surveillance recruitment for operation of on-board diagnostics (OBD) systems. EPA does not currently recruit vehicles for OBD testing but includes the testing in this ICR in the event that OBD testing is resumed. The third component involves the special investigation of vehicles to address specific issues. The number of vehicles procured under this category may vary from year to year. However, this information request does not ask for approval of the information burden corresponding to such vehicles because the vehicles for this program have not been procured from the public recently and, therefore, there is no information collection burden associated with this testing. Participation in the telephone screenings to identify qualifying light-duty vehicles, as well as the vehicle testing, is strictly voluntary. A group of 25 to 50 potential participants is identified from state vehicle registration records. These potential participants are asked to return a form indicating their willingness to participate and if so, to verify some limited vehicle information. Three of those who return the form are called and asked several screening questions concerning vehicle condition, operation and maintenance. Additional groups of potential participants may be contacted until a sufficient number of vehicles has been obtained. Owners verify the vehicle screening information when they deliver their vehicles to EPA or release the vehicle to EPA, voluntarily provide maintenance records for copying, receive a cash incentive and, if requested, a loaner car, and finally receive their vehicle from EPA at the conclusion of the testing.

Form Numbers: 5900-304, 5900-305, 5900-306, 5900-307, 5900-308, 5900-309.

Respondents/affected entities: A group of 25 to 50 potential participants is identified from state vehicle registration records. These potential participants are asked to return a form indicating their willingness to participate and if so, to verify some limited vehicle information. Three of those who return the form are called and asked several questions concerning vehicle condition, operation and maintenance. Additional groups of potential participants may be contacted until a sufficient number of vehicles have been obtained.

Respondent's obligation to respond: Voluntary.

Estimated number of respondents: Approximately 993 vehicle owners/lessees returned EPA's forms indicating interest in participating in the program and approximately 127 ultimately participated.

Frequency of response: On occasion.

Total estimated burden: 228 hours (per year). Burden is defined at 5 CFR 1320.03(b).

Total estimated cost: $5,864 (per year), includes $0 annualized capital or operation & maintenance costs.

Changes in Estimates: There is a decrease of 74 hours in the total estimated respondent burden compared with the ICR currently approved by OMB. This decrease is due to a decrease in the number of responses returned to EPA by potential participants and the associated burden.

Dated: October 2, 2020.
Byron J. Bunker,
Director, Compliance Division, Office of Transportation and Air Quality.

[FR Doc. 2020-22456 Filed 10-8-20; 8:45 am]

BILLING CODE 6560-50-P